FEDERAL COMMUNICATIONS COMMISSION

Notice of Public Information Collection(s) Being Reviewed by the Federal Communications Commission

September 23, 2003.

SUMMARY: The Federal Communications Commission, as part of its continuing effort to reduce paperwork burden invites the general public and other Federal agencies to take this opportunity to comment on the following information collection(s), as required by the Paperwork Reduction Act of 1995, Pub. L. 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before November 3, 2003. If you anticipate that you will be submitting comments, but find it difficult to do so within the period of time allowed by this notice, you should advise the contact listed below as soon as possible.

ADDRESSES: Direct all comments regarding this Paperwork Reduction Act submission to Judith B. Herman, Federal Communications Commission, Room 1-C804, 445 12th Street, SW, DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION:

OMB Control No.: 3060-0678.

Title: Part 25 of the Commission's Rules Governing the Licensing of, and Spectrum Usage by, Satellite Network Earth Stations and Space Stations.

Form Nos: FCC Forms 312, 312 EZ, 312-R and 312 Schedule S.

Type of Review: Revision of a currently approved collection.

Respondents: Business or other for-profit.

Number of Respondents: 6,274.

Estimated Time Per Response: 11 hours.

Frequency of Response: On occasion reporting requirement and third party disclosure requirement.

Total Annual Burden: 65,120 hours.

Total Annual Cost: $12,043,000.

Needs and Uses: The Commission adopted the Schedule S, a standardized form for space station license applications, and Form 312-EZ for earth station license applications. The implementation of the decisions in the Schedule S rulemaking will enable the Commission to review space station and earth station applications more quickly than is now possible, and therefore, increase speed of service to the public. In particular, the implementation of mandatory electronic filing of most satellite and earth station applications will result in a reduction of burden hours per submission for the applicants.

OMB Control No.: 3060-0681.

Title: Toll-Free Service Access Codes, CC Docket No. 95-155, 47 CFR part 52, subpart D, sections 52.101-52.111.

Form No: N/A.

Type of Review: Extension of a currently approved collection.

Respondents: Business or other for-profit, not-for-profit institutions.

Number of Respondents: 300.

Estimated Time Per Response: 15 hours.

Frequency of Response: On occasion reporting requirement and third party disclosure requirement.

Total Annual Burden: 4,500 hours.

Total Annual Cost: N/A.

Needs and Uses: Responsible Organizations (RespOrgs) who wish to make a specific toll free number unavailable must submit written request to the toll free database administrator, Database Services Management, Inc. (DSMI). This requirement will hold those RespOrgs more accountable and will decrease abuses of lag time in the process. It will prevent numbers from being held in unavailable status without demonstrated reasons, and will make more numbers available for subscribers who need and want them. If DSMI is uncertain whether a number should be placed in unavailable status, it should seek guidance from the Commission's Wireline Competition Bureau.

Federal Communications Commission.
Marlene H. Dortch,
Secretary.

[FR Doc. 03-25036 Filed 10-2-03; 8:45 am]

BILLING CODE 6712-01-P